DEPARTMENT OF HOMELAND SECURITY

Coast Guard

[ALJ-04-0001-CIV]

In the Matter of Union Oil Company of California

AGENCY: Coast Guard, DHS.

ACTION: Notice.

SUMMARY: The Coast Guard gives notice of the assessment, by consent order, of a Class II administrative penalty against Union Oil Company of California (UNOCAL) for an unlawful oil discharge at UNOCAL's King Salmon oil production platform, in Cook Inlet, Alaska. The consent order was issued without prior public hearing. Interested persons may petition the Coast Guard to set aside the consent order and provide a hearing.

DATES: All petitions must reach the Coast Guard not later than March 31, 2005.

ADDRESSES: Petitions may be mailed, faxed, or delivered to: Commandant, c/o Hearing Docket Clerk, Administrative Law Judge Docketing Center, United States Coast Guard, 40 South Gay Street, Room 412, Baltimore, Maryland 21202-4022. The fax number is (410) 962-1746. Delivery is accepted between 8 a.m. and 3 p.m. Eastern time, Monday through Friday, except Federal holidays. The Office of Administrative Law Judge Docketing Center maintains the public docket for this matter. Any petition will become part of this docket and will be available for inspection or copying in Room 412 at the address listed above.

FOR FURTHER INFORMATION CONTACT: Allison Megan, Esq., Hearing Docket Clerk, U.S. Coast Guard, 40 South Gay Street, Room 412, Baltimore, Maryland 21202-4022. The telephone number is (410) 962-7434.

SUPPLEMENTARY INFORMATION: This Class II civil penalty proceeding (ALJ-04-0001-CIV) involves the discovery of an oil sheen, on or about September 12, 2001, near the UNOCAL King Salmon oil production platform in Cook Inlet, Alaska. UNOCAL reported the sheen. Upon investigation it was determined that the oil sheen was caused by leakage from the annulus section of Well K-19 located on the ocean floor. This well contains waste by-products, including diesel oil that was created during the drilling process and is permanently stored in the well. It is estimated that 29,047 barrels (bbls) of waste by-products were re-injected into Well K-19 between July 8, 2001 and September 21, 2001. Based on the percentage of diesel oil used during the drilling process, it is estimated that Well K-19 contains 556 bbls of re-injected diesel oil.

A scientific study conducted by a third party contractor for UNOCAL concluded “the most probable cause of the leak is a shallow sub-surface breach in the cement surface casing [of the well] at the point of the re-injection.” It was concluded that any attempt to stop the leakage “would likely exacerbate the problem and potentially cause further damage.” The well is expected to continuously discharge an indeterminate amount of oil, not to exceed 556 bbls of diesel oil into the navigable waters of Cook Inlet until the oil is either exhausted or ceases to migrate to the surface. UNOCAL has instituted a monitoring program and regularly documents the appearance of any oil sheens at this location.

The Coast Guard brought this complaint against UNOCAL under section 311(j) of the Federal Water Pollution Control Act (FWPCA; 33 U.S.C. 1251 et. seq.), as amended by the Oil Pollution Act of 1990 (OPA 90; 33 U.S.C. 2701 et. seq.). Procedures governing such complaints appear in 33 CFR Part 20. The complaint sought a civil penalty of $137,500, was served in Juneau, Alaska on April 14, 2004, and filed at the Administrative Law Judge (ALJ) Docketing Center in Baltimore, Maryland on April 28, 2004. The parties submitted a proposed civil penalty assessment and settlement agreement, which an ALJ approved in a consent order issued without prior public hearing on February 17, 2005. The ALJ ordered the Coast Guard to publish notice of the consent order in the Federal Register, in accordance with the requirements of 33 U.S.C. 1321(b)(6)(C)(i) and (iii) and 33 CFR 20.1102(a). A copy of the consent order may be obtained by contacting the Hearing Docket Clerk.

Any interested person may petition the Commandant of the Coast Guard to set aside the consent order and provide a hearing. Petitions must be filed within 30 days of publication of this notice. If you submit a petition (see ADDRESSES), please include your name, address, the docket number (ALJ-04-0001-CIV), and a reason why the consent order should be set aside and a hearing provided. Please submit all comments and attachments in an unbound format on white paper no longer than 8 ½ by 11 inches, suitable for copying and electronic filing. Enclose a self-addressed, stamped postcard or envelope if you want the Hearing Docket Clerk to acknowledge receipt. The Commandant will either grant the petition and announce a public hearing, or deny it and publish the reason for denial.

Dated: February 17, 2005.
George J. Jordan,
Director of Judicial Administration, Office of Administrative Law Judge, United States Coast Guard.

[FR Doc. 05-3917 Filed 2-28-05; 8:45 am]

BILLING CODE 4910-15-P